NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 22, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-541), as amended by the Antarctic Science, Tourism and Conservation Act of 1996, has developed regulations for the establishment of a permit system for various activities in Antarctica and designation of certain animals and certain geographic areas as requiring special protection. The regulations establish such a permit system to designate Antarctic Specially Protected Areas.

Permit Application No. 2009-010

The applications received are as follows:

1. Applicant: Lisa K. Blatt, 1695 North Point Street, #204, San Francisco, CA 94123.

Activity for Which Permit Is Requested

Enter Antarctic Specially Protected Areas. The applicant is a member of the Antarctic Artists and Writers Program and plans to enter ASPA 155—Cape Evans (Scott's Hut), ASPA 157—Backdoor Bay, Cape Royds (Shackelton's Hut), and ASPA 158—Hut Point (Discovery Hut). The applicant plans to photograph and document the historical aspect of man's interaction with his environment in the historic huts and allow broader comparisons to the current interactions at McMurdo Station, and science camps.

Location

ASPA 155—Cape Evans (Scott's Hut), ASPA 157—Backdoor Bay, Cape Royds (Shackelton's Hut), and ASPA 158—Hut Point (Discovery Hut).

Dates

October 2, 2008 to February 28, 2009.

Permit Application No. 2009-016

2. Applicant: Hubertus Staudigel, Scripps Institution of Oceanography, UCSD-0225, La Jolla, CA 92093-0225.

Activity for Which Permit Is Requested

Enter Antarctic Specially Protected Area. The applicant plans to enter ASPA 130—Tramway Ridge, Mt. Erebus as it offers a unique opportunity to study microbial glass alteration because it is minimally affected by any major disturbance from people or multi-cellular life and it provides an extremely attractive natural laboratory that simulates microbe-rock interactions in an organics-poor environment. In such an environment, it is most likely to find truly chemo-autotrophic metabolisms. As such, it may be considered a close analog to microbial habitats of the early earth. In addition, Tramway Ridge is exposed to some unique extreme environmental conditions which offers much potential for identifying novel and specially adapted microbes.

Location

ASPA 130—Tramway Ridge, Mt. Erebus.

Dates

December 1, 2008 to December 31, 2008.

Permit Application No. 2009-017

3. Applicant: Cheryl E. Leonard, 2352 Fulton Street, San Franciso CA 94118.

Activity for Which Permit is Requested

Take. The applicant is a member of the Antarctic Artists and Writers program and plans to salvage bones from deceased Adelie, Chinstrap and Gentoo penguins. The bones, along with rocks, ice, fossils, feathers, shells, and water will be played literally as musical instruments as part of the project, “Antarctica: Hidden Musical Worlds”. These natural instruments will be the primary source of sounds for the musical pieces created for this project, although some works will also incorporate field recordings of birds, animals, ice and water. The project will culminate in a series of live concerts at science museums, aquariums, and concert halls throughout the U.S. and will be released on a DVD with international distribution.

Location

Palmer Station vicinity, Anvers Island.

Dates

November 1, 2008 to September 30, 2009.

Nadene G. Kennedy,
Permit Officer, Office of Polar Programs.

[FR Doc. E8-19456 Filed 8-21-08; 8:45 am]

BILLING CODE 7555-01-P